DEPARTMENT OF AGRICULTURE

Foreign Agricultural Service

Notice of Request for Revision of a Currently Approved Information Collection

AGENCY: Foreign Agricultural Service, USDA.

ACTION: Notice and request for comments.

SUMMARY: In accordance with the Paperwork Reduction Act of 1995, this notice announces that the Foreign Agricultural Service (FAS) intends to request a revision for a currently approved information collection procedure for Sugar Import Licensing Programs.

DATES: Comments should be received on or before April 9, 2018 to be assured of consideration.

ADDRESSES: We invite you to submit comments as requested in this document. In your comment, include the volume, date, and page number of this issue of the Federal Register. You may submit comments by any of the following methods:

• Federal eRulemaking Portal: Go to http://www.regulations.gov. Follow the online instructions for submitting comments.

• Mail, hand delivery, or courier: William Janis, International Economist, Import Policies and Programs Division, Foreign Agricultural Service, U.S. Department of Agriculture, Stop 1021, 1400 Independence Ave. SW, Washington, DC 20250-1021;

• Email: William.Janis@fas.usda.gov; or

• Telephone: (202) 720-2194.

Comments will be available for inspection online at http://www.regulations.gov and at the mail address listed above between 8:00 a.m. and 4:30 p.m., Monday through Friday, except holidays.

Persons with disabilities who require an alternative means for communication of information (e.g., Braille, large print, audiotape, etc.) should contact USDA's Target Center at (202) 720-2600 (voice and TDD).

FOR FURTHER INFORMATION CONTACT: William Janis, (202) 720-2194, William.Janis@fas.usda.gov.

SUPPLEMENTARY INFORMATION: Title: Sugar Imported for Export as Refined Sugar or as a Sugar-Containing Product, or used in the Production of Certain Polyhydric Alcohols.

OMB Number: 0551-0015.

Expiration Date of Approval: June 30, 2018.

Type of Request: Revision of a currently approved information collection.

Abstract: The primary objective of the Sugar Import Licensing Program is to permit entry of raw cane sugar, unrestricted by the quantitative limit established by the sugar tariff-rate quota, for re-export in refined form or in a sugar containing product or for the production of certain polyhydric alcohols. These programs are in use by as many as 250 licensees currently eligible to participate. Under 7 CFR part 1530, licensees are required to submit the following: (1) “Application for a license” information required for participation as set forth in section 1530.104; (2) “Regular reporting” of import, export, transfer, or use for charges and credits to licenses under section 1530.109; and (3) “Miscellaneous submission” of bonds or letters of credit under section 1530.107, appeals to determinations by the licensing authority under section 1530.112, or requests to the licensing authority for waivers under section 1530.113.

In addition, each participant must maintain records on all program reports as set forth in section 1530.110. The information collected is used by the licensing authority to manage, plan, evaluate, and account for program activities. The reports and records are required to ensure the proper operations of these programs.

Estimate of Burden: (1) “Application for a license” would require 20 hours per response; (2) “Regular reporting” would require between 10 and 15 minutes per transaction with the number of transactions varying per respondent; and (3) “miscellaneous submission” would require between 1 to 2 hours per bond or letter of credit, 2 to 10 hours per waiver request, and 10 to 100 hours per appeal.

Respondents: Sugar refiners, manufacturers of sugar containing products, and producers of polyhydric alcohol.

Estimated Number of Respondents: 270.

Estimated Number of Responses per Respondent: New/Renew License: 1; Regular reporting: 75 transactions, total; Miscellaneous: Bonds/letters of credit: 1; Waiver requests: 1; Appeals: 1.

Estimated Total Burden Hours on Respondents: 1,653 hours.

Request for Comments: We are requesting comments on all aspects of this information collection to help us to: (1) Evaluate whether the collection of information is necessary for the proper performance of FAS's functions, including whether the information will have practical utility; (2) Evaluate the accuracy of FAS's estimate of burden including the validity of the methodology and assumptions used; (3) Enhance the quality, utility and clarity of the information to be collected; and (4) Minimize the burden of the collection of information on those who are to respond, including through the use of appropriate automated, electronic, mechanical, or other technological collection techniques or other forms of information technology. Copies of this information collection can be obtained from Connie Ehrhart, the Agency Information Collection Coordinator, at (202) 690-1578 or email at Connie.Ehrhart@fas.usda.gov.

All comments received in response to this notice, including names and addresses when provided, will be a matter of public record. Comments will be summarized and included in the submission for Office of Management and Budget approval.

E-Government Act Compliance

FAS is committed to complying with the E-Government Act, to promote the use of the internet and other information technologies to provide increased opportunities for citizen access to Government information and services, and for other purposes.

Dated: January 29, 2018.
Bobby Richey, Jr.,
Acting Administrator, Foreign Agricultural Service.

[FR Doc. 2018-02267 Filed 2-5-18; 8:45 am]

BILLING CODE 3410-10-P